FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—04/20/2009
20090390 | Sterling Capital Partners III, L.P | Nova Records Management, LLC | Capital Records Management, Incorporated; Garden State Consulting, LLC; Nova Records, Inc.; Nova Records, LLC; Records Management Corporation; Release of Information Solutions, Inc.
Transactions Granted Early Termination—04/21/2009
20090380 | Deloitte LLP | BearingPoint, Inc | BearingPoint, Inc.
Transactions Granted Early Termination—04/22/2009
20090378 | Sanofi-Aventis | BiPar Sciences, Inc | BiPar Sciences, Inc.
20090386 | James R. Leininger, M.D. | BioNumerik Pharmaceuticals, Inc | BioNumerik Pharmaceuticals, Inc.
Transactions Granted Early Termination—04/24/2009
20090393 | Williams Companies, Inc | Atlas Pipeline Partners, L.P | Atlas Pipeline McKean, LLC; Atlas Pipeline New York, LLC.
20090396 | Advent-Kong Blocker Corp | Fifth Third Bancorp | Fifth Third Processing Solutions, LLC.
20090400 | Spectra Energy Corp. | Atlas Pipeline Partners, L.P | Atlas Pipeline Pennsylvania, LLC; Laurel Mountain Midstream Operating, LLC; Atlas Arkansas Pipeline LLC; Mid-Continent Arkansas Pipeline, LLC; NOARK PIPELINE System, Limited Partnership; Ozark Gas Gathering, LLC; Ozark Gas Transmission, LLC.
20090407 | Rosa Anna Magno Garavoglia | Pemod Ricard S.A | Austin Nichols & Co., Inc.; Pemod Ricard USA, LLC.
Transactions Granted Early Termination—04/27/2009
20090254 | Big Rivers Electric Corporation | E.ON AG | LG&E Energy Marketing Inc.; Western Kentucky Energy Corp.
20090408 | Stichting Pensioenfonds ABP | Hammerstein Properties LLC | Hammerstein Properties LLC.
20090414 | Stichting Pensioenfonds ABP | Richard Rodgers Family Trust | Richard Rodgers Family Trust
Transactions Granted Early Termination—04/28/2009
20090368 | Community Health Systems, Inc | Wyoming Valley Health Care System, Inc | Wyoming Valley Health Care System, Inc.
Transactions Granted Early Termination—04/29/2009
20090329 | INS, Inc. | VenSign, Inc | VenSign, Inc.
20090367 | National Oilwell Varco, Inc | Lee Barberito | Dynamic Drilling Fluids, LLP; Spirit Completion Fluids, Ltd.; Spirit Drilling Fluids, Ltd.; Spirit Drilling Fluids Sub, LLC; Spirit Minerals, L.P.
20090413 | Hudson Clean Energy Partners, L.P | Calisolar Inc | Calisolar Inc.
Transactions Granted Early Termination—05/01/2009
20090415 | MatlinPatterson Global Opportunities Partners III L.P | D.E. Shaw Composite International Fund | Foamex International, Inc.
20090420 | GS Capital Partners VI, L.P | Global Hyatt Corporation | Global Hyatt Corporation.

FOR FURTHER INFORMATION CONTACT: Sandra M. Peay, Contact Representative, or Renee Hallman, Contact Representative, Federal Trade Commission, Premerger Notification Office, Bureau of Competition, Room H-303, Washington, DC 20580, (202) 326-3100.

By Direction of the Commission.
Donald S. Clark,
Secretary.

[FR Doc. E9-11249 Filed 5-13-09; 8:45 am]

BILLING CODE 6750-01-M